DEPARTMENT OF HEALTH AND HUMAN SERVICES

Centers for Disease Control and Prevention

[30Day-06-05AD]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-4766 or send an email to omb@cdc.gov. Send written comments to CDC Desk Officer, Office of Management and Budget, Washington, DC or by fax to (202) 395-6974. Written comments should be received within 30 days of this notice.

Proposed Project

Helping to End Lead Poisoning (HELP): A Questionnaire Study of Medicaid Providers' Self-Reported Attitudes, Practices, Beliefs, and Barriers to Childhood Blood Lead Testing—New—National Center for Environmental Health, Centers for Disease Control and Prevention (CDC).

Background and Brief Description

According to the United States Department of Health and Human Services (DHHS), lead poisoning is one of the most serious environmental threats to children in the United States. Very high blood lead levels in children can cause encephalopathy, coma, and even death. At lower levels, lead poisoning is a silent attacker because most children who are lead poisoned do not show symptoms. Low levels of lead poisoning are often associated with reductions in IQ and attention span, and with learning disabilities, hyperactivity, and behavioral problems. Because of these subtle effects, the best way to determine if a child has lead poisoning is by giving the child a blood lead test.

Children eligible for Medicaid are typically at highest risk for lead exposure. DHHS policies require blood lead testing for all children participating in Federal health care programs. However, most children in or targeted by Federal health care programs have not been tested.

Although blood lead testing is important, it is ineffective unless it is performed when the child is young enough to receive the full benefits of effective environmental interventions. Thus, it was determined by the CDC Lead Poisoning Prevention Branch (LPPB) that more information is needed to understand the barriers Medicaid providers face when it comes to blood lead testing.

Helping To End Lead Poisoning (HELP) is a comparison study between two communities in Wisconsin. To determine why some areas in Wisconsin have high blood lead testing rates and others do not, Medicaid providers in two areas will be studied. Community 1 has high and Community 2 has low blood lead testing rates. Questionnaires will be mailed to all Medicaid providers in these two Wisconsin communities. The questionnaires will be sent from and returned to the CDC LPPB in Atlanta, Georgia. CDC will analyze the data from the questionnaires. CDC and the Wisconsin Childhood Lead Poisoning Prevention Program staff will use this information to understand the barriers Medicaid providers face concerning blood lead testing and to develop effective strategies that promote blood lead testing among Medicaid providers. There is no cost to respondents, other than their time.

National Center for Environment Health (NCEH), is requesting a year to complete the study. The total estimated burden hours are 14.

Estimated Annualized Burden Hours
Respondents | No. of respondents | No. of responses per respondent | Average burden per response (in hours)
Targeted Medicaid Providers in Wisconsin | 13 | 1 | 10/60
(mailed questionnaire) |  |  |
Targeted Medicaid Providers in Wisconsin | 60 | 1 | 10/60
(telephone follow-up): “Yes” |  |  |
Targeted Medicaid Providers in Wisconsin | 49 | 1 | 2/60
(telephone follow-up): “No” or mailed. |  |  |

Dated: December 23, 2005.
Betsey Dunaway,
Acting Reports Clearance Officer, Centers for Disease Control and Prevention.

[FR Doc. E5-8098 Filed 12-29-05; 8:45 am]

BILLING CODE 4163-18-P